TENNESSEE VALLEY AUTHORITY

Meeting Notice

AGENCY: Tennessee Valley Authority (Meeting No. 1550).

Time and Date: 9 a.m. (EST), March 16, 2004, University of Tennessee Chattanooga, College of Engineering Building Auditorium, 735 Vine Street, Chattanooga, Tennessee.

Status: Open.

Agenda

Approval of minutes of meeting held on January 14, 2004.

New Business

C—Energy

C1. Delegation of authority to the Executive Vice President, Fossil Power Group, to enter into a contract with Union Pacific Railroad for transportation of coal to various TVA fossil plants and third-party river terminals.

C2. Supplement to Contract No. 99998999 with G-UB-MK Constructors to provide management and craft labor for the planning and execution of modification and supplemental maintenance work at TVA's fossil and hydro plants, and other TVA-controlled facilities, and completion of multiple Selective Catalytic Reduction projects at TVA-assigned fossil plants.

C3. Supplement to Contract No. 297 with ALSTOM Power, Inc., to provide parts and services for pulverizers and burners and related technical services.

C4. Contract with Alcan Cable for aluminum conductor to be used for construction and maintenance of TVA's transmission lines.

C5. Contract with Consolidated Pipe & Supply Company, Inc., for purchase of pipe, valves, fittings, and related materials for any TVA location.

E—Real Property Transactions

E1. Modification of certain deed restrictions affecting approximately 1.0 acre of former TVA land on Chickamauga Reservoir in Rhea County, Tennessee, Tract No. XCR-169, S.8X, to allow for construction of a house and for an existing fill and garage to remain on part of the property.

E2. Modification of certain deed restrictions affecting approximately 12.6 acres of former TVA land on Fort Loudoun Reservoir in Knox County, Tennessee, Tract Nos. XTFL-79, S.1X and XTFL-86, S.1X, to allow the property to be sold for residential development.

E3. Sale of a 30-year easement and a temporary construction easement to the Middle Tennessee Natural Gas Utility District for the construction and operation of a refined petroleum pipeline, affecting approximately 4.0 acres of land on Great Falls Reservoir in Warren County, Tennessee, Tract No. XGFR-36P.

E4. Grant of a permanent easement to the State of Tennessee for a highway improvement project, affecting approximately 13.76 acres of TVA land on Norris Reservoir in Grainger and Claiborne Counties, Tennessee, Tract No. XTNR-113H.

E5. Sale of a permanent easement to the City of Rockwood, Tennessee, for a road right-of-way, affecting approximately 0.5 acre of land at TVA's Rockwood Primary Substation in Roane County, Tennessee, Tract No. XTRWSS-1H.

E6. Grant of a noncommercial, nonexclusive permanent easement to Charles McLeroy for construction and maintenance of recreational water use facilities, affecting approximately 0.43 acre of land on Watts Bar Reservoir, Tract No. XWBR-715RE, in exchange for approximately 5.3 acres of land on Watts Bar Reservoir in Roane County, Tennessee, Tract WBR-1797.

E7. Grant of a permanent easement to the City of Parsons, Tennessee, for a raw water intake structure and waterline, affecting approximately 5.4 acres of TVA land on Kentucky Reservoir in Decatur County, Tennessee, Tract No. XTGIR-152E.

E8. Grant of a 30-year public recreation easement to Grainger County, Tennessee, for use as a public park, with an option to renew for additional 30-year terms, affecting approximately 90 acres of land on Cherokee Reservoir in Grainger County, Tennessee, Tract No. XTCK-67RE.

F—Other

F1. Approval to file condemnation cases to acquire easements and rights-of-way for a TVA power transmission line project affecting the Morgan Energy Center-General Motors Transmission Line in Limestone County, Alabama.

Information Items

1. Approval of a delegation of authority to add and remove Disclosure Control Committee members, and to amend TVA's Corporate Accountability and Disclosure Plan.

2. Approval of appointment of Janice K. Pulver as Assistant Secretary of TVA.

3. Approval of a contract pricing policy applicable to negotiations with distributors who have given notice that they are terminating their wholesale power contract with TVA and who later seek to negotiate a return to TVA service before that contract expires.

4. Approval of the recommendations resulting from the 68th Annual Wage Conference for Construction Project Hourly Wage Rates for 2004.

5. Approval of the recommendations resulting from the 68th Annual Wage Conference for Annual Trades and Labor employees for 2004.

6. Approval of a supplement to contract with Medco Health Solutions, Inc.

7. Approval of the sale of a permanent easement to the City of West Point, Mississippi, for commercial or light industrial development purposes, affecting approximately 4.14 acres in Clay County, Mississippi, Tract No. XWPAH-2E.

FOR FURTHER INFORMATION CONTACT: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: March 9, 2004.
Clifford L. Beach, Jr.,
Attorney and Assistant Secretary.

[FR Doc. 04-5735 Filed 3-10-04; 10:05 am]

BILLING CODE 8120-08-P